MILLENNIUM CHALLENGE CORPORATION

Millennium Challenge Corporation Advisory Council Notice of Open Meeting; Correction

AGENCY: Millennium Challenge Corporation.

ACTION: Renewal of the MCC Advisory Council and call for nominations for 2018-2020 term; correction.

SUMMARY: The Millennium Challenge Corporation published a document in the Federal Register of July 13, 2018, concerning refiling of the charter for the MCC Advisory Council and soliciting representative nominations for the 2018-2020 term. The document contained incorrect terminology in the subject and action lines, and an incorrect date.

FOR FURTHER INFORMATION CONTACT: Requests for additional information can be emailed to MCCAdvisoryCouncil@mcc.gov or mailed to Millennium Challenge Corporation, Attn: Beth Roberts, Designated Federal Officer, MCC Advisory Council, 1099 14th St. NW, Suite 700, Washington, DC 20005. Requests for additional information may also be obtained by contacting Beth Roberts at 202-521-3600.

SUPPLEMENTARY INFORMATION:

Correction

In the Federal Register of July 13, 2018, in FR Doc. 2018-15053, on page 32689 in the third column, Subject and Action lines, correct the subject “Millennium Challenge Corporation Advisory Council Notice of Open Meeting” to read: Renewal of the MCC Advisory Council and Call for Nominations for 2018-2020 Term, and correct the “Action” caption to read:

ACTION: Notice. On page 32690 in the first column, correct the “Dates” caption to read:

DATES: Nominations for Advisory Council members must be received on or before 5 p.m. EDT on August 17, 2018. Further information about the nomination process is included below.

MCC plans to host the first meeting of the 2018-2020 term of the MCC Advisory Council in Fall 2018. The Council will meet at least two times a year in Washington, DC, or via video/teleconferencing.

Dated: July 19, 2018.
Jeanne M. Hauch,
Vice President and General Counsel, Millennium Challenge Corporation.

[FR Doc. 2018-15949 Filed 7-25-18; 8:45 am]

BILLING CODE 9211-03-P